Title 3—

The President

Executive Order 14059 of December 15, 2021

Imposing Sanctions on Foreign Persons Involved in the Global Illicit Drug Trade

By the authority vested in me as President by the Constitution and the laws of the United States of America, including the International Emergency Economic Powers Act (50 U.S.C. 1701 et seq.) (IEEPA), the National Emergencies Act (50 U.S.C. 1601 et seq.) (NEA), the Fentanyl Sanctions Act (21 U.S.C. 2301 et seq.) (FSA), sections 212(f) and 215(a) of the Immigration and Nationality Act of 1952 (8 U.S.C. 1182(f) and 1185(a)), and section 301 of title 3, United States Code,

I, JOSEPH R. BIDEN JR., President of the United States of America, find that the trafficking into the United States of illicit drugs, including fentanyl and other synthetic opioids, is causing the deaths of tens of thousands of Americans annually, as well as countless more non-fatal overdoses with their own tragic human toll. Drug cartels, transnational criminal organizations, and their facilitators are the primary sources of illicit drugs and precursor chemicals that fuel the current opioid epidemic, as well as drug-related violence that harms our communities. I find that international drug trafficking—including the illicit production, global sale, and widespread distribution of illegal drugs; the rise of extremely potent drugs such as fentanyl and other synthetic opioids; as well as the growing role of Internet-based drug sales—constitutes an unusual and extraordinary threat to the national security, foreign policy, and economy of the United States. This serious threat requires our country to modernize and update our response to drug trafficking. I hereby declare a national emergency to deal with that threat.

Accordingly, I hereby order:

Section 1. (a) The Secretary of the Treasury is authorized to impose any of the sanctions described in section 2 of this order on any foreign person determined by the Secretary of the Treasury, in consultation with the Secretary of State, the Attorney General, and the Secretary of Homeland Security:

(i) to have engaged in, or attempted to engage in, activities or transactions that have materially contributed to, or pose a significant risk of materially contributing to, the international proliferation of illicit drugs or their means of production; or

(ii) to have knowingly received any property or interest in property that the foreign person knows:

(A) constitutes or is derived from proceeds of activities or transactions that have materially contributed to, or pose a significant risk of materially contributing to, the international proliferation of illicit drugs or their means of production; or

(B) was used or intended to be used to commit or to facilitate activities or transactions that have materially contributed to, or pose a significant risk of materially contributing to, the international proliferation of illicit drugs or their means of production.

(b) The Secretary of the Treasury is authorized to impose any of the sanctions described in section 2 of this order on any foreign person determined by the Secretary of the Treasury, in consultation with the Secretary of State, the Attorney General, and the Secretary of Homeland Security:

(i) to have provided, or attempted to provide, financial, material, or technological support for, or goods or services in support of:

(A) any activity or transaction described in subsection (a)(i) of this section; or

(B) any sanctioned person;

(ii) to be or have been a leader or official of any sanctioned person or of any foreign person that has engaged in any activity or transaction described in subsection (a)(i) of this section; or

(iii) to be owned, controlled, or directed by, or to have acted or purported to act for or on behalf of, directly or indirectly, any sanctioned person.

(c) The Secretary of the Treasury is authorized to impose any of the sanctions described in section 2 of this order consistent with the requirements of section 7212 of the FSA (21 U.S.C. 2312) on any foreign person determined by the President, or by the Secretary of the Treasury pursuant to authority delegated by the President and in accordance with the terms of such delegation, to be subject to sanctions pursuant to section 7212 of the FSA.

Sec. 2. When the Secretary of the Treasury, in accordance with the terms of section 1 of this order, has determined that a foreign person meets any of the criteria in section 1(a)-(c) of this order, the Secretary of the Treasury, in consultation with the Secretary of State, the Attorney General, and the Secretary of Homeland Security, is authorized to select one or more of the sanctions set forth in subsections (a)(i)-(vi) of this section to impose on that foreign person.

(a) The Secretary of the Treasury shall take the following actions as necessary to implement the selected sanctions:

(i) block all property and interests in property of the sanctioned person that are in the United States, that hereafter come within the United States, or that are or hereafter come within the possession or control of any United States person, and provide that such property and interests in property may not be transferred, paid, exported, withdrawn, or otherwise dealt in;

(ii) prohibit any transfers of credit or payments between financial institutions, or by, through, or to any financial institution, to the extent that such transfers or payments are subject to the jurisdiction of the United States and involve any interest of the sanctioned person;

(iii) prohibit any United States financial institution from making loans or providing credit to the sanctioned person;

(iv) prohibit any transactions in foreign exchange that are subject to the jurisdiction of the United States and in which the sanctioned person has any interest;

(v) prohibit any United States person from investing in or purchasing significant amounts of equity or debt instruments of the sanctioned person; or

(vi) impose on the principal executive officer or officers of the sanctioned person, or on persons performing similar functions and with similar authorities as such officer or officers, any of the sanctions described in subsections (a)(i)-(v) of this section that are applicable.

(b) The heads of the relevant executive departments and agencies, in consultation with the Secretary of the Treasury, shall take the following actions as necessary and appropriate to implement the sanctions selected by the Secretary of the Treasury:

(i) with respect to a sanctioned person that is a financial institution:

(A) the Board of Governors of the Federal Reserve System and the Federal Reserve Bank of New York shall not designate, and shall rescind any prior designation of, the sanctioned person as a primary dealer in United States Government debt instruments; and

(B) the sanctioned person shall not serve as an agent of the United States Government or serve as a repository for United States Government funds;

(ii) actions required to ensure that executive departments and agencies shall not procure, or enter into a contract for the procurement of, any goods or services from the sanctioned person;

(iii) actions required to suspend entry into the United States of any noncitizen whom the Secretary of the Treasury, in consultation with the Secretary of State, the Attorney General, and the Secretary of Homeland Security, determines is a leader, official, senior executive officer, or director of, or a shareholder with a controlling interest in, the sanctioned person; or

(iv) actions required to impose on the principal executive officer or officers of the sanctioned person, or on persons performing similar functions and with similar authorities as such officer or officers, any of the sanctions described in subsections (b)(i)-(iii) of this section that are applicable.

Sec. 3. The prohibitions in section 2 of this order apply except to the extent provided by statutes, or in regulations, orders, directives, or licenses that may be issued pursuant to this order, and notwithstanding any contract entered into or any license or permit granted prior to the date of this order.

Sec. 4. (a) The unrestricted immigrant and nonimmigrant entry into the United States of noncitizens determined to meet any of the criteria in section l(a)-(c) of this order, and for whom the sanctions described in section 2(a)(i) or 2(b)(iii) of this order have been selected, would be detrimental to the interests of the United States, and the entry of such persons into the United States, as immigrants or nonimmigrants, is hereby suspended, except when the Secretary of State or the Secretary of Homeland Security, as appropriate, determines that the person's entry would not be contrary to the interests of the United States, including when the Secretary of State or the Secretary of Homeland Security, as appropriate, so determines, based on a recommendation of the Attorney General, that the person's entry would further important United States law enforcement objectives.

(b) The Secretary of State shall implement this order as it applies to visas pursuant to such procedures as the Secretary of State, in consultation with the Secretary of Homeland Security, may establish.

(c) The Secretary of Homeland Security shall implement this order as it applies to the entry of noncitizens pursuant to such procedures as the Secretary of Homeland Security, in consultation with the Secretary of State, may establish.

(d) Such persons shall be treated by this section in the same manner as persons covered by section 1 of Proclamation 8693 of July 24, 2011 (Suspension of Entry of Aliens Subject to United Nations Security Council Travel Bans and International Emergency Economic Powers Act Sanctions).

Sec. 5. The prohibitions in section 2(a)(i) of this order include:

(a) the making of any contribution or provision of funds, goods, or services by, to, or for the benefit of any person whose property and interests in property are blocked pursuant to this order; and

(b) the receipt of any contribution or provision of funds, goods, or services from any such person.

Sec. 6. (a) Any transaction that evades or avoids, has the purpose of evading or avoiding, causes a violation of, or attempts to violate any of the prohibitions set forth in this order is prohibited.

(b) Any conspiracy formed to violate any of the prohibitions set forth in this order is prohibited.

Sec. 7. I hereby determine that the making of donations of the types of articles specified in section 203(b)(2) of IEEPA (50 U.S.C. 1702(b)(2)) by, to, or for the benefit of any person whose property and interests in property are blocked pursuant to this order would seriously impair my ability to deal with the national emergency declared in this order, and I hereby prohibit such donations as provided by section 2(a) of this order.

Sec. 8. For the purpose of this order:

(a) the term “entity” means a partnership, association, trust, joint venture, corporation, group, subgroup, or other organization;

(b) the term “financial institution” includes a depository institution (as defined in section 3(c)(l) of the Federal Deposit Insurance Act (12 U.S.C. 1813(c)(l))), including a branch or agency of a foreign bank (as defined in section 1(b)(7) of the International Banking Act of 1978 (12 U.S.C. 3101(7))); a credit union; a securities firm, including a broker or dealer; an insurance company, including an agency or underwriter; and any other company that provides financial services;

(c) the term “foreign person” means any citizen or national of a foreign state (including any such individual who is also a citizen or national of the United States, provided such individual does not reside in the United States) or any entity not organized under the laws of the United States;

(d) the term “knowingly” or “knows” with respect to conduct, a circumstance, or a result, means that a person has actual knowledge, or should have known, of the conduct, the circumstance, or the result;

(e) the phrase “means of production” includes any activities or transactions involving any equipment, chemical, product, or material that may be used, directly or indirectly, in the manufacture of illicit drugs or precursor chemicals;

(f) the term “noncitizen” means any person who is not a citizen or noncitizen national of the United States;

(g) the term “person” means an individual or entity;

(h) the term “proliferation of illicit drugs” means any illicit activity to produce, manufacture, distribute, sell, or knowingly finance or transport: narcotic drugs, controlled substances, listed chemicals, or controlled substance analogues, as defined in section 102 of the Controlled Substances Act (21 U.S.C. 802);

(i) the term “sanctioned person” means any person sanctioned pursuant to this order;

(j) the term “United States financial institution” means a financial institution (including its foreign branches) organized under the laws of the United States or of any jurisdiction within the United States or located in the United States; and

(k) the term “United States person” means any United States citizen, lawful permanent resident, entity organized under the laws of the United States or any jurisdiction within the United States (including foreign branches), or any person in the United States.

Sec. 9. For those persons whose property and interests in property are blocked pursuant to this order who might have a constitutional presence in the United States, I find that because of the ability to transfer funds or other assets instantaneously, prior notice to such persons of measures to be taken pursuant to this order would render those measures ineffectual. I therefore determine that for those measures to be effective in addressing the national emergency declared in this order, there need be no prior notice of a listing or determination made pursuant to this order.

Sec. 10. The Secretary of the Treasury, in consultation with the Secretary of State, the Attorney General, and the Secretary of Homeland Security, is authorized to take such actions, including promulgating rules and regulations, and to employ all powers granted to the President by the FSA or IEEPA as may be necessary to implement this order. The Secretary of the Treasury may, consistent with applicable law, redelegate any of these functions within the Department of the Treasury. All executive departments and agencies shall take all appropriate measures within their authority to implement the provisions of this order.

Sec. 11. The Secretary of the Treasury, in consultation with the Secretary of State, is hereby authorized to submit recurring and final reports to the Congress on the national emergency declared in this order, consistent with section 401(c) of the NEA (50 U.S.C. 1641(c)) and section 204(c) of IEEPA (50 U.S.C. 1703(c)).

Sec. 12. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 15, 2021.

[FR Doc. 2021-27505

Filed 12-16-21; 8:45 am]

Billing code 3395-F2-P